ENVIRONMENTAL PROTECTION AGENCY

[OPP-2003-0197; FRL-7311-4]

Issuance of Experimental Use Permits

AGENCY: Environmental Protection Agency (EPA).

ACTION: Notice.

SUMMARY: EPA has granted experimental use permits (EUPs) to the following pesticide applicants. An EUP permits use of a pesticide for experimental or research purposes only in accordance with the limitations in the permit.

FOR FURTHER INFORMATION CONTACT: For additional information contact the designated contact person for the EUP listed in Unit I.C. of the SUPPLEMENTARY INFORMATION.

SUPPLEMENTARY INFORMATION:

I. General Information

A. Does this Action Apply to Me?

This action is directed to the public in general. Although this action may be of particular interest to those persons who conduct or sponsor research on pesticides, the Agency has not attempted to describe all the specific entities that may be affected by this action. If you have any questions regarding the information in this action, consult the person listed under FOR FURTHER INFORMATION CONTACT.

B. How Can I Get Copies of this Document and Other Related Information?

1. Docket. EPA has established an official public docket for this action under docket identification (ID) number OPP-2003-0197. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

C. Contact Persons

For additional information contact the designated contact person for the EUP listed in the table below:

Contact person | Telephone number/e-mail address | Mailing address | EUP number
Dani Daniel | (703) 305-5409; daniel.dani@epa.gov | Registration Division (7505C), Office of Pesticide Programs, Environmental Protection Agency, 1200 Pennsylvania Ave., Washington, DC 20460 | 100-EUP-110
John Hebert | (703) 308-6249; hebert.john@epa.gov | Do. | 71715-EUP-2
Dan Kenny | (703) 305-7546; kenny.dan@epa.gov | Do. | 352-EUP-167
Susan L. Stanton | (703) 305-5218; stanton.susan@epa.gov | Do. | 70341-EUP-2 70341-EUP-3
Joseph Tavano | (703) 305-6411; tavano.joseph@epa.gov | Do. | 100-EUP-112 100-EUP-113

II. EUPs

EPA has issued the following EUPs:

1. 100-EUP-110. Amendment. Syngenta Crop Protection, Inc., P.O. Box 18300, Greenboro, NC 27419-8300. In the Federal Register of February 15, 2002 (67 FR 7163) (FRL-6823-5), EPA issued an EUP for thiamethoxam to Syngenta Crop Protection, Inc. The original issuance allowed 120.8 pounds of the insecticide thiamethoxam to be used on 1,230 sq. ft. around 615 structures over a period of 3 years to evaluate the control of termites and other nuisance pests in the States of Alabama, Arizona, California, Florida, Georgia, Hawaii, Kentucky, Louisiana, Mississippi, Nebraska, North Carolina, Oklahoma, South Carolina, Tennessee, Texas, and Virginia. This amendment will allow for additional use sites, lower the count to 128 structures on 2,000 sq. ft. using 160 pounds of the insecticide. The program is now authorized in the States of Alabama, Arkansas, Arizona, California, Florida, Georgia, Hawaii, Indiana, Kansas, Kentucky, Louisiana, Maryland, Mississippi, Missouri, Nebraska, New Jersey, North Carolina, Ohio, Oklahoma, South Carolina, Tennessee, Texas, and Virginia. The EUP is effective from April 30, 2002 to October 30, 2005.

2. 100-EUP-112. Issuance. Syngenta Crop Protection, 410 Swing Road, Greensboro, NC 27419-8300. This EUP allows the use of 74 pounds active ingredient of the insecticide Lufenuron around 125 structures to be used as an outdoor in-ground termite bait. The program is authorized in the States of Alabama, Arizona, Arkansas, California, Florida, Georgia, Hawaii, Indiana, Kansas, Kentucky, Louisiana, Maryland, Mississippi, Missouri, Nebraska, Nevada, North Carolina, Ohio, Oklahoma, Pennsylvania, South Carolina, Texas, and Virginia. The EUP is effective from April 3, 2003 to April 3, 2006.

3. 100-EUP-113. Issuance. Syngenta Crop Protection, 410 Swing Road, Greensboro, NC 27419-8300. This EUP allows the use of 1 pound active ingredient of the insecticide Lufenuron around 25 structures to be used as an above ground termite bait. The program is authorized only in the States of Arizona, California, Florida, Georgia, Hawaii, Louisiana, Ohio, South Carolina, and Texas. The EUP is effective from May 7, 2003 to May 7, 2006.

4. 352-EUP-167. Issuance. E. I. Dupont de Nemours and Company, P.O. Box 30, Newark, DE 19714. This EUP allows the use of 450 pounds of the insecticide Dupont Avaunt, containing 135 pounds of the active ingredient indoxacarb on 300 acres of peaches to evaluate the control of the Oriental fruit moth and plum curculio. The program is authorized only in the States of Georgia, Michigan, New Jersey, Pennsylvania, South Carolina, and West Virginia. The EUP is effective from May 2, 2003 to May 2, 2005.

5. 70341-EUP-2. Issuance. IPM Technologies, Inc., 4134 North Vancouver Avenue #105, Portland, OR 97217. This EUP allows the use of 300 pounds of the insecticide Last Call PLR, containing 18 pounds of the active ingredient permethrin and 4.8 pounds of a pheromone blend on 68 acres of apples to evaluate the control of Pandemis leafroller moth. The program is authorized only in the State of Washington. The EUP is effective from May 15, 2003 to May 14, 2004.

6. 70341-EUP-3. Issuance. IPM Technologies, Inc., 4134 North Vancouver Avenue #105, Portland, OR 97217. This EUP allows the use of 300 pounds of the insecticide Last Call OBLR, containing 18 pounds of the active ingredient permethrin and 4.8 pounds of a pheromone blend on 68 acres of apples to evaluate the control of Oblique banded leafroller moth. The program is authorized only in the State of Washington. The EUP is effective from May 15, 2003 to May 14, 2004.

7. 71715-EUP-2. Issuance. Tonnie L. C. Casey, Kamehameha Schools, 78-6831 Alii Drive, Suite 232, Kailua-Kona, HI 96740. This EUP allows the use of 16,000 pounds of the rodenticide Eaton's Bait Pellet Rodenticide with Fish Flavorizer, containing 80 pounds of the active ingredient diphacinone on 800 acres of forested ranchland to evaluate the control of invasive rodents and mongooses. The program is authorized only in the State of Hawaii. The EUP is effective from May 6, 2003 to May 6, 2004.

Authority: 7 U.S.C. 136c.

List of Subjects

Environmental protection, Experimental use permits.

Dated: July 1, 2003.
Debra Edwards
Director, Registration Division, Office of Pesticide Programs.

[FR Doc. 03-18318 Filed 7-17-03; 8:45 am]

BILLING CODE 6560-50-S